DEPARTMENT OF ENERGY

Bonneville Power Administration

GNA Cliffs Energy Project

AGENCY: Bonneville Power Administration (BPA), Department of Energy (DOE).

ACTION: Notice of availability of Record of Decision (ROD).

SUMMARY: This notice announces the availability of the ROD to offer contract terms for integrating power from the Cliffs Energy Project of GNA Energy, LLC, into the Federal Columbia River Transmission System. This decision is based on input from public processes and information in the BPA Business Plan Environmental Impact Statement (DOE/EIS-0183, June 1995) and the Business Plan ROD (August 15, 1995). The Cliffs Energy Project is a 300-megawatt gas-fired, combined-cycle, combustion-turbine power generation project, which will help serve as a resource to meet demand in the long term.

ADDRESSES: Copies of the GNA Cliffs Energy ROD, Business Plan, and Business Plan EIS and ROD may be obtained by calling BPA's toll-free document request line: 1-800-622-4520.

FOR FURTHER INFORMATION CONTACT: Donald L. Rose, KEC-4, Bonneville Power Administration, P.O. Box 3621, Portland, Oregon, 97208-3621, telephone number 503-230-3796; fax number 503-230-5699; e-mail dlrose@bpa.gov.

Issued in Portland, Oregon, on September 13, 2002.
Stephen J. Wright,
Administrator and Chief Executive Officer.

[FR Doc. 02-24073 Filed 9-20-02; 8:45 am]

BILLING CODE 6450-01-P